DEPARTMENT OF COMMERCE

International Trade Administration

[A-570-947]

Steel Grating From the People's Republic of China: Notice of Correction to the Notice of a Court Decision Not in Harmony With the Final Determination in the Less-Than-Fair-Value Investigation and Notice of Amended Final Determination Pursuant to Court Decision

AGENCY: Enforcement and Compliance, International Trade Administration, Department of Commerce.

DATES: Effective Date: April 19, 2014.

FOR FURTHER INFORMATION CONTACT: Brandon Farlander and Thomas Martin, Office 4, Antidumping and Countervailing Duty Operations, International Trade Administration, U.S. Department of Commerce, 14th Street and Constitution Avenue NW., Washington, DC 20230; telephone: (202) 482-0182 and (202) 482-3936.

SUPPLEMENTARY INFORMATION: On July 25, 2014, the Department of Commerce (“the Department”) published the notice of court decision not in harmony with the final determination in the less-than-fair-value investigation of steel grating from the People's Republic of China and notice of amended final determination pursuant to court decision.¹ Subsequent to the publication of the Amended Final and Timken Notice, the Department discovered an inadvertent error in the Federal Register notice.

¹ See Steel Grating From the People's Republic of China: Notice of Court Decision Not in Harmony With the Final Determination in the Less-Than-Fair-Value Investigation and Notice of Amended Final Determination Pursuant to Court Decision, 79 FR 43396 (July 25, 2014) (“Amended Final and Timken Notice”).

Specifically, the Amended Final and Timken Notice incorrectly reversed the names for Ningbo Haitian International Co., Ltd. (“Ningbo Haitian”) and Ningbo Lihong Steel Grating Co., Ltd. (“Ningbo Lihong”) in the “Producer” and “Exporter” columns in the rate table printed in the Amended Final and Timken Notice.² As a result of this error, the Amended Final and Timken Notice incorrectly indicated that a combination rate was applicable to Ningbo Haitian as the producer and Ningbo Lihong as the exporter. The notice should have indicated that Ningbo Haitian was the exporter and Ningbo Lihong was the producer. The revised rate table should read as follows:

² See Amended Final and Timken Notice, 79 FR at 43397.

Producer | Exporter | Weighted-average dumping margin (percent)
Ningbo Lihong Steel Grating Co., Ltd | Ningbo Haitian International Co., Ltd | 38.16
Yantai Xinke Steel Structure Co., Ltd | Yantai Xinke Steel Structure Co., Ltd | 38.16
Ningbo Jiulong Machinery Manufacturing Co., Ltd | Ningbo Jiulong Machinery Manufacturing Co., Ltd | 145.18

Notification to Interested Parties

This notice is issued and published in accordance with sections 516A(e)(1) and 777(i)(1) of the Tariff Act of 1930, as amended.

Dated: August 8, 2014.
Paul Piquado,
Assistant Secretary for Enforcement and Compliance.

[FR Doc. 2014-19278 Filed 8-13-14; 8:45 am]

BILLING CODE 3510-DS-P